DEPARTMENT OF AGRICULTURE

Food and Nutrition Service

Agency Information Collection Activities: Proposed Collection; Comment Request: Food Stamp Program Web-Based Pre-Screening Tool

AGENCY: Food and Nutrition Service, USDA.

ACTION: Notice.

SUMMARY: In accordance with the Paperwork Reduction Act of 1995, this notice invites the general public and other public agencies to comment on proposed information collections. The information collection being proposed involves the use of a web-based pre-screening tool for the general public to use to determine potential eligibility for Food Stamp Program benefits. Some data provided by the users will be captured and retained for analytical purposes.

DATES: Written comments must be submitted on or before July 9, 2002, to be assured consideration.

ADDRESSES: Send comments to Pat Seward, Outreach Coordinator, State Administration Branch, Food Stamp Program, Food and Nutrition Service, U.S. Department of Agriculture, 3101 Park Center Drive, Room 820, Alexandria, VA 22302.

Pursuant to the Paperwork Reduction Act of 1995 (44 U.S.C. 3507), comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate, automated, electronic, mechanical, or other technological collection techniques or other forms of information technology.

All comments will be summarized and included in the request for Office of Management and Budget (OMB) approval of the information collection. All comments will become a matter of public record.

FOR FURTHER INFORMATION: Requests for additional information should be directed to Pat Seward at (703) 305-2328.

SUPPLEMENTARY INFORMATION: Title: Food Stamp Program Web-Based Pre-Screening Tool.

OMB Number: To be assigned by OMB.

Form Number: None.

Expiration Date: The Food and Nutrition Service (FNS) is requesting approval from OMB for three years.

Type of Request: This is a new information collection request.

Abstract: FNS is developing an interactive web-based food stamp pre-screening tool to be utilized by the general public to determine potential Food Stamp Program eligibility pursuant to 7 USC 2014. Once the user enters household size, income, expenses and resource information, the tool will calculate and provide the user with an estimated range of benefits that the household may be eligible to receive. Since food stamp eligibility and benefit amount may vary by location, FNS will provide a disclaimer that the tool is only an estimator, and the household will need to contact the local agency to determine actual eligibility and the appropriate benefit amount.

While FNS will not capture and retain any specific identifying or eligibility-related information about the household itself that uses the tool, it will request and retain the following information:

• The State where the user resides;

• Whether the user is using the tool for personal reasons or on behalf of others; and

• If the user is using it on the behalf of others; the user will be asked to identify him/herself (i.e., relative of a person in need, advocacy organization, faith-based group, etc.) using a drop down menu.

This information will help FNS determine the degree and type of system usage as well as potential areas for further study. There may also be a formal survey appended to this tool but any such survey and proposed information collection will be announced under a separate notice.

Affected Public: Potential food stamp applicants and those using the tool on their behalf.

Estimated Number of Respondents: 48,000 per year.

Number of Responses per Respondent: 1.

Total Number of Annual Responses: 48,000.

Estimated Time per Response: 10 minutes.

Estimated Total Annual Burden: 8,000 hours.

Dated: April 25, 2002.
Eric M. Bost,
Under Secretary, Food, Nutrition, and Consumer Services.

[FR Doc. 02-11674 Filed 5-9-02; 8:45 am]

BILLING CODE 3410-30-P